SOCIAL SECURITY ADMINISTRATION

[Docket No. SSA-2019-0039]

Agency Information Collection Activities: Proposed Request and Comment Request

The Social Security Administration (SSA) publishes a list of information collection packages requiring clearance by the Office of Management and Budget (OMB) in compliance with Public Law 104-13, the Paperwork Reduction Act of 1995, effective October 1, 1995. This notice includes one new collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2019-0039].

The information collections below are pending at SSA. SSA will submit them to OMB within 60 days from the date of this notice. To be sure we consider your comments, we must receive them no later than November 12, 2019. Individuals can obtain copies of the collection instruments by writing to the above email address.

The Strengthening Protections for Social Security Beneficiaries Act of 2018, Section 103(b) Questionnaire—0960-NEW.

Background

SSA pays monthly benefits to members of the public who qualify under the Old Age, Survivors, and Disability Insurance (OASDI) program and who are eligible for the Supplemental Security Income (SSI) program. Some claimants who qualify for monthly payments under these programs are unable to manage their benefit payments. When SSA determines program participants incapable of managing or directing the management of their benefits, SSA sends the payments to a representative payee on the beneficiary's behalf. The representative payee is a person or organization designated by SSA to manage OASDI or SSI payments to meet the individual's basic needs, such as food, clothing, and shelter.

Explanation of Proposed Information Collection Tool

To help ensure that appointed representatives are acting in the best interests of the claimants whom they represent, Section 103(b) of the Strengthening Protections for Social Security Beneficiaries Act (SPSSBA), Public Law 115-165, requires SSA to assess the administrative feasibility of improving information sharing with State agencies that provide Adult Protective Services about claimants with representative payees. Specifically, Section 103(b) of the SPSSBA asks us to evaluate the following:

• The assessment of an individual's need for a representative payee in connection with benefits to which the individual is entitled under Title II or Title XVI of the Social Security Act; and

• Oversight of the individuals and organizations who are serving as representative payees.

To conduct this evaluation, SSA created the Strengthening Protections for Social Security Beneficiaries Act of 2018, Section 103(b) Questionnaire. The Questionnaire will assess the representative payee data available from each State and determine if the State is willing to share the data it collects. We will email this one-time questionnaire to State agencies or non-governmental entities that provide Adult Protective Services, and will let them know that participation in the questionnaire is voluntary. We estimate we will receive one response per respondent, with one respondent per agency completing the questionnaire on the agency's behalf. Our goal is to complete this study by June 30, 2022, so we can submit the required report to the Committee on Ways and Means of the House of Representatives and the Committee on Finance of the Senate in accordance with the SPSSBA's mandates. The Respondents are State agencies and non-governmental entities that provide Adult Protective Services to disability claimants under our OASDI and SSI programs.

Type of Request: This is a new information collection.

Modality of completion | Number of respondents | Frequency of response | Average burden per response (minutes) | Estimated total annual burden (hours) | Average hourly wage (dollars) * | Total annual opportunity cost (dollars) **
Emailed Questionnaire | 57 | 1 | 12 | 11 | $12.15 | $133.65
* We based this figure on average State Governmental Information Clerks hourly salary, as reported by Bureau of Labor Statistics data.
** This figure does not represent actual costs that SSA is imposing on recipients of Social Security payments to complete this application; rather, these are theoretical opportunity costs for the additional time respondents will spend to complete the application. There is no actual charge to respondents to complete the questionnaire.

Date: September 9, 2019.
Naomi Sipple,
Reports Clearance Officer, Social Security Administration.

[FR Doc. 2019-19678 Filed 9-11-19; 8:45 am]

BILLING CODE 4191-02-P